DEPARTMENT OF COMMERCE

National Oceanic and Atmospheric Administration

RIN 0648-XW001

Magnuson-Stevens Act Provisions; General Provisions for Domestic Fisheries; Coastal Pelagic Species Fishery; Application for Exempted Fishing Permits

AGENCY: National Marine Fisheries Service (NMFS), National Oceanic and Atmospheric Administration (NOAA), Commerce.

ACTION: Notice; request for comments.

SUMMARY: The Regional Administrator, West Coast Region, NMFS, has made a preliminary determination that an application for an Exempted Fishing Permit warrants further consideration. The application, submitted by the California Wetfish Producers Association, requests an exemption from the expected prohibition of primary directed fishing for Pacific sardine for the 2019-2020 fishing year to collect Pacific sardine as part of an industry-based scientific survey. NMFS requests public comment on the application.

DATES: Comments must be received by July 8, 2019.

ADDRESSES: You may submit comments on this document, identified by NOAA-NMFS-2019-0057, by any of the following methods:

• Electronic Submissions: Submit all electronic public comments via the Federal e-Rulemaking Portal. Go to www.regulations.gov/#!docketDetail;D=NOAA-NMFS-2019-0057, click the “Comment Now!” icon, complete the required fields, and enter or attach your comments. The EFP application will be available under Relevant Documents through the same link.

• Mail: Submit written comments to Lynn Massey, West Coast Region, NMFS, 501 W. Ocean Blvd., Ste. 4200, Long Beach, CA 90802-4250.

• Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Lynn Massey, West Coast Region, NMFS, (562) 436-2462, lynn.massey@noaa.gov.

SUPPLEMENTARY INFORMATION: On May 28, 2019, NMFS published a proposed rule (84 FR 24459) to implement Pacific sardine harvest specifications for the 2019-2020 fishing year off the U.S. West Coast, which begins on July 1. This proposed rule included a 4,514 metric ton (mt) annual catch limit (ACL) and a prohibition on directed commercial fishing for Pacific sardine off the coasts of Washington, Oregon, and California (except for small directed catch and catch of live bait). At the April 2019 Pacific Fishery Management Council (Council) meeting, the Council voted in support of the California Wetfish Producer Association's (CWPA) exempted fishing permit (EFP) application as well as one other application that NMFS is evaluating separately, which both requested an exemption from the prohibition on directed fishing for Pacific sardine. The Council therefore structured the 2019-2020 Pacific sardine harvest specifications so that up to 405 mt (the combined total of the anticipated harvests under the two EFP proposals the Council reviewed) of the ACL could be harvested under EFPs. The CWPA requested to directly harvest up to 400 mt of Pacific sardine for its Coastal Pelagic Species Near-shore Cooperative Survey (CPS-NCS).

Since 2012 the California Department of Fish and Wildlife, in partnership with the CWPA, has been conducting aerial surveys to estimate the biomass and distribution of sardine and certain other CPS species in nearshore waters in the Southern California Bight, and in the Monterey-San Francisco area since the summer of 2017. Currently, there is uncertainty in the biomass estimates from aerial spotter pilots. The CPS-NCS survey associated with the proposed EFP is part of research to quantify that level of uncertainty by capturing CPS schools identified by aerial spotter pilots and validating the biomass and species composition of the schools. A portion of each point set (i.e., an individual haul of fish captured with a purse seine net) will be retained for biological sampling, and the remainder will be sold by the participating fishermen and processors to offset research costs and avoid unnecessary discard. This research contributes to broader efforts to understand CPS biomass in shallow, nearshore areas that NOAA's CPS offshore acoustic trawl survey is unable to access.

If NMFS issues this EFP, the CPS-NCS will survey nearshore waters of the Southern California Bight for 7-10 days between July 1, 2019 and June 30, 2020. Any harvest under this EFP would count against the ACL for Pacific sardine. If NMFS does not issue this EFP, then this 400 mt-portion of the ACL would be available for harvest by other permissible fishing activities.

Authority: 16 U.S.C. 1801 et seq.

Jennifer M. Wallace,
Acting Director, Office of Sustainable Fisheries, National Marine Fisheries Service.

[FR Doc. 2019-13214 Filed 6-20-19; 8:45 am]

BILLING CODE 3510-22-P